ENVIRONMENTAL PROTECTION AGENCY

40 CFR Part 52

[EPA-R07-OAR-2012-0150; FRL-9687-9]

Approval and Promulgation of Implementation Plans; State of Iowa: Regional Haze

AGENCY: Environmental Protection Agency (EPA).

ACTION: Final rule.

SUMMARY: EPA is finalizing a limited approval of a revision to the State Implementation Plan (SIP) for Iowa, submitted by the Iowa Department of Natural Resources on March 25, 2008, that addresses Regional Haze for the first implementation period. Specifically, these revisions address the requirements of the Clean Air Act (CAA or Act) and EPA's rules that required States to prevent any future and remedy any existing anthropogenic impairment of visibility in Class I areas (national parks and wilderness areas) caused by emissions of air pollutants located over a wide geographic area (also known as the “regional haze” program). EPA proposed to approve these revisions on February 28, 2012. In a separate rulemaking action, EPA finalized the limited disapproval of Iowa's regional haze SIP and imposed a Federal Implementation Plan (FIP) for Iowa which was signed on May 30, 2012, and published in the Federal Register on June 7, 2012.

DATES: This rule will become effective July 26, 2012, except that the amendment to § 52.842 is effective August 6, 2012.

ADDRESSES: EPA has established a docket for this action under Docket Identification No. EPA-R07-OAR-2012-0150. All documents in the docket are listed on the www.regulations.gov Web site. Although listed in the index, some information is not publicly available, i.e., Confidential Business Information (CBI) or other information whose disclosure is restricted by statute. Certain other material, such as copyrighted material, is not placed on the Internet and will be publicly available only in hard copy form. Publicly available docket materials are available either electronically through www.regulations.gov or in hard copy at the Air Planning and Development Branch, Air and Waste Management Division, U.S. Environmental Protection Agency, Region 7, 901 North 5th Street, Kansas City, Kansas, 66101. EPA requests that if at all possible, you contact the person listed in the FOR FURTHER INFORMATION CONTACT section for further information. The regional office's official hours of business are Monday through Friday, 8:30 to 4:30, excluding Federal holidays.

FOR FURTHER INFORMATION CONTACT: Chrissy Wolfersberger, Air Planning and Development Branch, U.S. Environmental Protection Agency, Region 7, 901 North 5th Street, Kansas City, Kansas 66101; by telephone at (913) 551-7864; or by email at wolfersberger.chris@epa.gov.

SUPPLEMENTARY INFORMATION: Throughout this document, the terms “we,” “us,” and “our” refer to EPA.

Table of Contents

I. Background

II. Public Comments and EPA Responses

III. Technical Corrections

IV. Final Action

V. Statutory and Executive Order Reviews

I. Background

On February 28, 2012 (77 FR 11974), EPA published a notice of proposed rulemaking (NPR) for the State of Iowa, proposing limited approval of Iowa's regional haze plan for the first implementation period (through 2018). A detailed explanation of the CAA's visibility requirements and the regional haze rule as it applies to Iowa was provided in the NPR and will not be restated here. EPA's rationale for proposing limited approval of the Iowa SIP was also described in detail in the proposal.

II. Public Comments and EPA Responses

The publication of EPA's proposed rule on February 28, 2012, initiated a 30 day public comment period that ended on March 29, 2012. During the public comment period we received no written comments.

III. Technical Corrections

Table 2, “Iowa's Absolute Contribution to Visibility Impairment, Northern Midwest Class I Areas” contained one numerical error. Iowa's 2002 contribution to Voyagers should read 2.16 rather than 2.60.

In Table 7, “2002 Iowa Emissions Summary,” the NH3 area source inventory should read 6,560 rather than 6.560.

IV. Final Action

EPA is finalizing its limited approval of the State of Iowa's Regional Haze SIP, submitted on March 25, 2008, as meeting some of the applicable regional haze requirements set forth in section 169A and 169B of the CAA and in the Federal regulations codified at 40 CFR 51.308, and the requirements of 40 CFR part 51, subpart F and appendix V. In a separate rulemaking action, EPA finalized the limited disapproval of Iowa's Regional Haze SIP and imposed a FIP for Iowa. 77 FR 33642.

V. Statutory and Executive Order Requirements

Under the CAA, the Administrator is required to approve a SIP submission that complies with the provisions of the Act and applicable Federal regulations. 42 U.S.C. 7410(k); 40 CFR 52.02(a). Thus, in reviewing SIP submissions, EPA's role is to approve State choices, provided that they meet the criteria of the CAA. Accordingly, this action merely approves State law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

Executive Order 13175, entitled “Consultation and Coordination with Indian Tribal Governments” (65 FR 67249, November 9, 2000), requires EPA to develop an accountable process to ensure “meaningful and timely input by tribal officials in the development of regulatory policies that have tribal implications.” This rule does not have tribal implications, as specified in Executive Order 13175. It will not have substantial direct effects on tribal governments. Thus, Executive Order 13175 does not apply to this rule.

List of Subjects in 40 CFR Part 52

Air pollution control, Environmental protection, Incorporation by reference, Intergovernmental relations, Nitrogen oxides, Particulate matter, Reporting and recordkeeping requirements, Sulfur dioxide, Volatile organic compounds.

Dated: June 7, 2012.
Karl Brooks,
Regional Administrator, Region 7.

40 CFR part 52 is amended as follows:

PART 52—[AMENDED]

1. The authority citation for part 52 continues to read as follows:

Authority: 42 U.S.C. 7401 et seq.

Subpart Q—Iowa

2. In § 52.820 the table in paragraph (e) is amended by adding a new entry (39) in numerical order to read as follows:

§ 52.820 Identification of plan.

* * * * *

(e) * * *

EPA-Approved Iowa Nonregulatory Provisions
Name of nonregulatory SIP provision | Applicable geographic or nonattainment area | State submittal date | EPA approval date | Explanation
* * * * * * *
(39) Regional Haze plan for the first implementation period | Statewide | 3/25/08 | 6/26/12, [Insert Federal Register citation] | § 52.842(a); Limited Approval.

3. Section 52.842 is amended by revising paragraph (a) to read as follows:

§ 52.842 Visibility protection.

(a) Regional Haze. The requirements of section 169A of the Clean Air Act are not met because the regional haze plan submitted by Iowa on March 25, 2008, does not include fully approvable measures for meeting the requirements of 40 CFR 51.308(d)(3) and 51.308(e) with respect to emissions of NOX and SO2 from electric generating units. EPA has given limited approval and limited disapproval to the plan provisions addressing these requirements.

* * * * *

[FR Doc. 2012-15020 Filed 6-25-12; 8:45 am]

BILLING CODE 6560-50-P